FEDERAL COMMUNICATIONS COMMISSION

47 CFR Part 76

[CS Docket No. 00-96; FCC 08-86]

Carriage of Digital Television Broadcast Signals; Implementation of the Satellite Home Viewer Improvement Act of 1999: Local Broadcast Signal Carriage Issues and Retransmission Consent Issues

AGENCY: Federal Communications Commission.

ACTION: Final rule; announcement of effective date.

SUMMARY: In this document, the Commission announces that the Office of Management and Budget (OMB) has approved, for a period of three years, the information collections associated with the Commission's 2008 Second Report and Order, concerning Carriage of Digital Television Broadcast Signals. This notice is consistent with the Second Report and Order, which stated that the Commission would publish a document in the Federal Register announcing the effective of the rules once OMB approval has been received for the information collection requirements.

DATES: Sections 47 CFR 76.66(b)(1), 47 CFR 76.66(d)(2)(vi) and the non-rule requirement at paragraph 16, published at 73 FR 24502, May 5, 2008, are effective August 27, 2008.

FOR FURTHER INFORMATION CONTACT: Rosalee Chiara, Rosalee.Chaira@fcc.gov or (202) 418-0754.

SUPPLEMENTARY INFORMATION: This document announces that, on August 21, 2008, OMB approved, for a period of three years, the information collection requirements contained in the Commission's Second Report and Order concerning Carriage of Digital Television Broadcast Signals, FCC 08-86, published at 73 FR 24502, May 5, 2008. The OMB Control Number that is assigned to these information collection requirements is 3060-0980. The Commission publishes this notice as announcement of the effective date of the rules and announcement of OMB approval for information collections. If you have any comments on the burden estimates listed below, or how the Commission can improve the collections and reduce any burdens caused thereby, please contact Cathy Williams, Federal Communications Commission, Room 1-C823, 445 12th Street, SW., Washington, DC 20554. Please include the OMB Control Number, 3060-0980, in your correspondence. The Commission will also accept your comments via the Internet if you send them to PRA@fcc.gov.

Synopsis

As required by the Paperwork Reduction Act of 1995 (44 U.S.C. 3507), the FCC is notifying the public that it received OMB approval on August 21, 2008, for the information collection requirements contained in the Commission's rules at 47 CFR 76.66(b)(1), 47 CFR 76.66(d)(2)(vi) and non-rule requirements contained in paragraph 16 (see 73 FR 24502). The OMB Control Number assigned is 3060-0980 for all of the information collection requirements contained in 47 CFR 76.66(b)(1), 47 CFR 76.66(d)(2)(vi), and non-rule requirements contained in paragraph 16 (see 73 FR 24502). The total annual reporting burden for respondents for the collection is estimated to be: 10,280 respondents; 11,938 responses; and a total annual burden hours of 12,146 hours, and $16,000 total annual cost burden.

Under 5 CFR 1320, an agency may not conduct or sponsor a collection of information unless it displays a current, valid OMB Control Number.

No person shall be subject to any penalty for failing to comply with a collection of information subject to the Paperwork Reduction Act that does not display a valid OMB Control Number.

The foregoing notice is required by the Paperwork Reduction Act of 1995, Public Law 104-13, October 1, 1995, and 44 U.S.C. 3507.

Federal Communications Commission.
Marlene H. Dortch,
Secretary.

[FR Doc. E8-19883 Filed 8-26-08; 8:45 am]

BILLING CODE 6712-01-P